DEPARTMENT OF EDUCATION

[Docket No.: ED-2019-ICCD-0135]

Agency Information Collection Activities; Comment Request; Study of State Policies To Prohibit Aiding and Abetting Sexual Misconduct in Schools

AGENCY: Office of Elementary and Secondary Education (OESE), Department of Education (ED).

ACTION: Notice.

SUMMARY: In accordance with the Paperwork Reduction Act of 1995, ED is proposing a new information collection.

DATES: Interested persons are invited to submit comments on or before December 27, 2019.

ADDRESSES: To access and review all the documents related to the information collection listed in this notice, please use http://www.regulations.gov by searching the Docket ID number ED-2019-ICCD-0135. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Andrew Abrams, 202-245-7500.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of State Policies to Prohibit Aiding and Abetting Sexual Misconduct in Schools.

OMB Control Number: 1810-NEW.

Type of Review: A new information collection.

Respondents/Affected Public: State, Local, and Tribal Governments.

Total Estimated Number of Annual Responses: 56.

Total Estimated Number of Annual Burden Hours: 56.

Abstract: Under Section 8546 of the Every Student Succeeds Act (ESSA), every state must have laws, regulations, or policies that prohibit the state education agency, a district, a school, or any school employee, contractor, or agent, from assisting an individual in obtaining new employment if they know, or have probable cause to believe, that the individual has engaged in sexual misconduct with a student or minor in violation of the law. The U.S. Department of Education is conducting a study that will examine states' development and implementation of laws and policies to prohibit aiding and abetting sexual misconduct in schools. The study will also describe the challenges states have encountered implementing the requirements of Section 8546 and how they have addressed these challenges. The study is not intended to determine the extent to which each state is complying with Section 8546. Rather, the Department seeks to understand how states are addressing implementing the provisions in Section 8546 in order to inform the Department's technical assistance efforts to states on this section of the law.

Dated: October 22, 2019.
Stephanie Valentine,
PRA Coordinator, Information Collection Clearance Program, Information Management Branch, Office of the Chief Information Officer.

[FR Doc. 2019-23436 Filed 10-25-19; 8:45 am]

BILLING CODE 4000-01-P